INTERNATIONAL TRADE COMMISSION

[Investigations Nos. 731-TA-935-936 and 938-942 (Final)]

Certain Structural Steel Beams From China, Germany, Luxembourg, Russia, South Africa, Spain, and Taiwan

Determinations

On the basis of the record ¹ developed in the subject investigations, the United States International Trade Commission determines,² pursuant to section 735(b) of the Tariff Act of 1930 (19 U.S.C. 1673d(b)) (the Act), that an industry in the United States is not materially injured or threatened with material injury, and the establishment of an industry in the United States is not materially retarded, by reason of imports from China, Germany, Luxembourg, Russia, South Africa, Spain, and Taiwan of certain structural steel beams, provided for in subheadings 7216.32.00 and 7216.33.00 of the Harmonized Tariff Schedule of the United States, that have been found by the Department of Commerce to be sold in the United States at less than fair value (LTFV).

¹ The record is defined in sec. 207.2(f) of the Commission's Rules of Practice and Procedure (19 CFR § 207.2(f)).

² Commissioner Lynn M. Bragg dissenting.

Background

The Commission instituted these investigations effective May 23, 2001, following receipt of petitions filed with the Commission and Commerce by the Committee for Fair Beam Imports and its individual members Northwestern Steel & Wire Co., Sterling IL; Nucor Corp., Charlotte, NC; Nucor-Yamato Steel Co., Blytheville, AR; and TXI-Chaparral Steel Co., Midlothian, TX. The final phase of the investigations was scheduled by the Commission following notification of preliminary determinations by Commerce that imports of certain structural steel beams from China, Germany, Russia, South Africa, and Taiwan were being sold at LTFV within the meaning of section 733(b) of the Act (19 U.S.C. 1673b(b)). Although Commerce made negative preliminary determinations with respect to imports from Luxembourg ³ and Spain, the Commission decided, for purposes of efficiency, to proceed concurrently with the final phase of all the investigations. Notice of the scheduling of the final phase of the Commission's investigations and of a public hearing to be held in connection therewith was given by posting copies of the notice in the Office of the Secretary, U.S. International Trade Commission, Washington, DC, and by publishing the notice in the Federal Register of February 7, 2002 (67 FR 5851). The hearing was held in Washington, DC, on May 15, 2002, and all persons who requested the opportunity were permitted to appear in person or by counsel.

³ Although Commerce initially made an affirmative dumping determination, it published an amended preliminary determination of sales at not less than fair value on January 31, 2002.

The Commission transmitted its determinations in these investigations to the Secretary of Commerce on June 28, 2002. The views of the Commission are contained in USITC Publication 3522 (June 2002), entitled Certain Structural Steel Beams from China, Germany, Luxembourg, Russia, South Africa, Spain, and Taiwan: Investigations Nos. 731-TA-935-936 and 938-942 (Final).

Issued: June 24, 2002.
By order of the Commission.
Marilyn R. Abbott,
Secretary to the Commission.

[FR Doc. 02-16305 Filed 6-26-02; 8:45 am]

BILLING CODE 7020-02-P